DEPARTMENT OF COMMERCE

National Oceanic and Atmospheric Administration

RIN 0648-XA607

Fisheries of the South Atlantic; Southeast Data, Assessment, and Review (SEDAR); South Atlantic Black Sea Bass (Centropristis striata) and Golden Tilefish (Lopholatilus chamaeleonticeps)

AGENCY: National Marine Fisheries Service (NMFS), National Oceanic and Atmospheric Administration (NOAA), Commerce.

ACTION: Notice of a date change for SEDAR 25 Review Workshop for South Atlantic black sea bass and golden tilefish.

SUMMARY: The SEDAR 25 Review of the South Atlantic stock of black sea bass and golden tilefish will consist of one workshop, originally scheduled for September 20-22, 2011, will now be held October 11-13, 2011. This is the twenty-fifth SEDAR. See SUPPLEMENTARY INFORMATION.

DATES: The SEDAR 25 Review Workshop will take place October 11-13, 2011. See SUPPLEMENTARY INFORMATION.

ADDRESSES: The SEDAR 25 Review Workshop will be held at the Crowne Plaza, 4831 Tanger Outlet Boulevard, North Charleston, SC 29418, telephone: (843) 740-7028.

FOR FURTHER INFORMATION CONTACT: Kari Fenske, SEDAR Coordinator, 4055 Faber Place Drive, Suite 201, North Charleston, SC 29405; (843) 571-4366; kari.fenske@safmc.net.

SUPPLEMENTARY INFORMATION: The original notice published in the Federal Register on July 28, 2011 (76 FR 45231). All other information previously-published remains unchanged.

The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Panelists for SEDAR Workshops are appointed by the Gulf of Mexico, South Atlantic, and Caribbean Fishery Management Councils and NOAA Fisheries Southeast Regional Office and Southeast Fisheries Science Center. SEDAR participants include data collectors and database managers; stock assessment scientists, biologists, and researchers; constituency representatives including fishermen, environmentalists, and NGO's; International experts; and staff of Councils, Commissions, and state and Federal agencies.

SEDAR 25 Review Workshop Schedule

October 11-13, 2011; SEDAR 25 Review Workshop

October 11, 2011: 9 a.m.-8 p.m.;

October 12, 2011: 8 a.m.-8 p.m.;

October 13, 2011: 8 a.m.-1 p.m.

The Review Workshop is an independent peer review of the assessment developed during the Data and Assessment Workshops. Workshop Panelists will review the assessment and document their comments and recommendations in a Consensus Summary.

Special Accommodations

These meetings are physically accessible to people with disabilities. Requests for sign language interpretation or other auxiliary aids should be directed to the Council office (see ADDRESSES) at least 5 business days prior to each workshop.

Dated: August 2, 2011.
William D. Chappell,
Acting Director, Office of Sustainable Fisheries, National Marine Fisheries Service.

[FR Doc. 2011-19927 Filed 8-4-11; 8:45 am]

BILLING CODE 3510-22-P